DEPARTMENT OF THE INTERIOR

Fish and Wildlife Service

[FWS-HQ-R-2013-N025; FXFR13350900000-134-FF09F14000]

Voluntary Guidelines to Prevent the Introduction and Spread of Aquatic Invasive Species; Recreational Activities and Water Gardening

AGENCY: Fish and Wildlife Service, Interior.

ACTION: Notice of availability; request for comments.

SUMMARY: The U.S. Fish and Wildlife Service (USFWS), announces the availability of two draft documents for public review:

• Voluntary Guidelines to Prevent the Introduction and Spread of Aquatic Invasive Species: Recreational Activities

• Voluntary Guidelines to Prevent the Introduction and Spread of Aquatic Invasive Species: Water Gardening

These voluntary guidelines are intended to be used by agencies and organizations to develop materials that inform the public and industry about the risks associated with many everyday activities that may spread aquatic invasive species and harm the environment and the economy. The intent of this information is to encourage the public and industry to take precautions to limit the spread of aquatic invasive species.

DATES: To ensure consideration, please send your written comments by July 31, 2013.

ADDRESSES: Obtaining Documents: The two draft documents may be obtained online, by mail, or by email:

• http://anstaskforce.gov/documents.php;

• U.S. mail: U.S. Fish and Wildlife Service, Branch of Aquatic Invasive Species, 4401 N. Fairfax Drive, Room 740, Arlington, VA 22203; or

• Email: Laura_Norcutt@fws.gov.

Submitting Comments: Please submit your comments in writing by one of the following methods:

• U.S. mail: U.S. Fish and Wildlife Service, Branch of Aquatic Invasive Species, 4401 N. Fairfax Drive, Room 740, Arlington, VA 22203; or

• Email: Laura_Norcutt@fws.gov.

FOR FURTHER INFORMATION CONTACT: Laura Norcutt, 703-358-2398.

SUPPLEMENTARY INFORMATION:

Background

Through provisions in Title 50, part 16, of the Code of Federal Regulations (CFR) 16, the U.S. Fish and Wildlife Service (Service) regulates the importation and interstate transport of certain aquatic species that have been determined to be injurious. The Nonindigenous Aquatic Nuisance Prevention and Control Act of 1990 (16 U.S.C. 4701 et seq.) established the Aquatic Nuisance Species Task Force (ANSTF), an intergovernmental organization co-chaired by the Service and the National Oceanic and Atmospheric Administration and dedicated to prevent and control the spread of aquatic nuisance species. In 2000, the ANSTF developed Recommended Voluntary Guidelines for Preventing the Spread of Aquatic Nuisance Species Associated with Recreational Activities and announced the availability of the guidelines via a Federal Register notice (65 FR 82447; December 28, 2000).

Development of Draft Guidelines Documents

In 2011 the ANSTF established committees to revise the Recommended Voluntary Guidelines for Preventing the Spread of Aquatic Nuisance Species Associated with Recreational Activities and to develop new guidelines that would prevent the spread of aquatic invasive species by water gardening. The goal of the two committees was to develop clear, easy-to-use standardized national guidelines that are easily communicated to user groups and can be incorporated into education and outreach media. An additional benefit to recreationists and water gardeners who follow these guidelines is to avoid possible violation of Federal, Tribal, and State laws that prohibit the transport of aquatic invasive species.

Recreational Activities

In July 2011, the ANSTF established a committee of about 50 representatives of Federal and State agencies, nongovernmental organizations, and industry to update the recreational guidelines from 2000. The revised draft document, Voluntary Guidelines to Prevent the Introduction and Spread of Aquatic Invasive Species: Recreational Activities, will provide guidance to agencies, organizations, and the public on preventing the spread of aquatic invasive species through activities such as angling, boating, scuba diving, waterfowl hunting, and operating seaplanes.

Water Gardening

In November 2011, the ANSTF established a committee to develop guidance to address the potential spread of aquatic invasive species by water gardening. The product, a draft document titled Voluntary Guidelines to Prevent the Introduction and Spread of Aquatic Invasive Species: Water Gardening, will provide concise guidelines to be used by agencies, organizations, and the public for education and outreach.

Request for Public Comments

The draft revised guidelines are available on the ANSTF Web site (see ADDRESSES) for public review and comment.

We request review and comment on our guidelines from local, State, Tribal, and Federal agencies and the public. All comments received by the date specified in DATES will be considered in preparing final documents. Methods of submitting comments are in ADDRESSES.

Public Availability of Comments

Before including your address, phone number, email address, or other personal identifying information in your comment, you should be aware that your entire comment—including your personal identifying information—may be made publicly available at any time. You can ask the Service in your comment to withhold your personal identifying information from public review; however, we cannot guarantee that we will be able to do so.

Responses to individual commenters will not be provided, but we will provide the comments we receive and a summary of how we addressed substantive comments in a document on the ANSTF Web site listed above in ADDRESSES. Individuals without internet access may request an appointment to inspect the comments during normal business hours at our office (see ADDRESSES).

Dated: April 15, 2013.
Stephen Guertin,
Director, U.S. Fish and Wildlife Service.

[FR Doc. 2013-15705 Filed 6-28-13; 8:45 am]

BILLING CODE 4310-55-P